DEPARTMENT OF THE TREASURY

Fiscal Service

Surety Companies Acceptable on Federal Bonds: Amendment—Swiss Reinsurance America Corporation

AGENCY: Financial Management Service, Fiscal Service, Department of the Treasury.

ACTION: Notice.

SUMMARY: This is Supplement No. 3 to the Treasury Department Circular 570, 2007 Revision, published July 2, 2007, at 72 FR 36192.

FOR FURTHER INFORMATION CONTACT: Surety Bond Branch at (202) 874-6850.

SUPPLEMENTARY INFORMATION: The underwriting limitation for Swiss Reinsurance America Corporation, which was listed in the Treasury Department Circular 570, published on July 2, 2007, is hereby amended to read $364,914,000. Federal bond-approving officers should annotate their reference copies of the Treasury Department Circular 570 (“Circular”), 2007 Revision, to reflect this change.

The Circular may be viewed and downloaded through the Internet at http://www.fms.treas.gov/c570.

Questions concerning this notice may be directed to the U.S. Department of the Treasury, Financial Management Service, Financial Accounting and Services Division, Surety Bond Branch, 3700 East-West Highway, Room 6F01, Hyattsville, MD 20782.

Dated: October 31, 2007.
Vivian L. Cooper,
Director, Financial Accounting and Services Division.

[FR Doc. 07-5640 Filed 11-13-07; 8:45 am]

BILLING CODE 4810-35-M